ENVIRONMENTAL PROTECTION AGENCY

[FRL-8777-1]

Restricted Access to the Region 4 Library

AGENCY: U.S. Environmental Protection Agency.

ACTION: Notice concerning restricted access to the EPA Region 4 Library due to a renovation project.

SUMMARY: The United States Environmental Protection Agency (EPA) is issuing this notice to advise the public that the Region 4 Library will close for approximately three (3) months with restricted access to walk-in patrons. The library will undergo a major renovation to optimize the use of space. During renovation, the current physical space of the library will not be accessible. The Regional Librarian will be temporarily relocated to a room adjacent to the current library.

Core services such as interlibrary loans, cataloging, online literature searches, quick and extensive reference/research requests (including business research, journal articles, etc.) will continue to be handled by the Andrew W. Breidenbach Environmental Research Center (AWBERC) located in Cincinnati, OH (also referred to as the CINN Library). All requests for these core services should be submitted to the Region 4 Librarian or directly to the Cincinnati Library:

EPA Region 4 Librarian—Ora M. Howell, E-mail: r4-library@epa.gov, Phone: (404) 562-8190;

Cincinnati Library, E-mail (preferred): CI_Awberc Library@epamail.epa.gov, Phone: (513) 569-7703, Facsimile: (513) 569-7709.

DATES: The Region 4 Library will be closed to the public and EPA patrons during its renovation from approximately March 2, 2009 through May 31, 2009.

ADDRESSES: The Region 4 Library is located at the Sam Nunn Atlanta Federal Center, 61 Forsyth Street, 9th Floor, Atlanta, Georgia 30303-8960.

FOR FURTHER INFORMATION CONTACT: Region 4 Federal Library Managers—LouAnn Gross at (404) 562-9642, gross.louann@epa.gov, or Shayla Patillo at (404) 562-8385, patillo.shayla@epa.gov, or at 61 Forsyth Street. Atlanta, Georgia 30303. General information concerning the Region 4 Library may also be obtained by accessing its Internet server (http://www.epa.gov/libraries/).

SUPPLEMENTARY INFORMATION: Currently, the Region 4 Library is open to walk-in patrons. During the renovation period, which is expected to last from March 2, 2009 through March 31, 2009, the library will be closed to public and EPA patrons. The Region 4 Librarian will be available at an alternate location to respond to inquiries and forward requests to AWBERC.

The change in Region 4's Library access policy does not affect any of the core services provided through the Memorandum of Understanding with AWBERC.

Dated: December 17, 2008.
J.I. Palmer, Jr.,
Regional Administrator, Region 4.

[FR Doc. E9-4232 Filed 2-26-09; 8:45 am]

BILLING CODE 6560-50-P